DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Mental Health First Aid Evaluation—NEW.

The Substance Abuse and Mental Health Services Administration's (SAMHSA) Center for Mental Health Services (CMHS) is requesting approval from the Office of Management and Budget (OMB) for new data collection activities associated with its Mental Health First Aid (MHFA) program.

This information is needed to evaluate implementation of MHFA and Youth Mental Health First Aid in three distinct grant programs: Project Advancing Wellness and Resilience in Education (AWARE) State Education Agency (SEA) Cooperative Agreements, which provide funding to support MHFA and YMHFA training to state education agencies; Project AWARE Local Education Agency (LEA) Grants, which provide funding to school districts; and Project AWARE Community (C), a new funding opportunity in fiscal year 2015 that is intended to support MHFA and YMHFA training through a wide range of community organizations.

The MHFA/YMHFA evaluation will address both overarching and program-specific questions related to the implementation and effectiveness of widespread dissemination of mental health literacy programs through these three distinct funding mechanisms and increase SAMHSA's understanding of training, referral benefits, and issues in varied milieu (e.g., implementation climate, leadership). These evaluation questions are essential to address because, although MHFA/YMHFA has a track record and well-articulated theory of action, it is vital for SAMHSA to be able to identify factors that are expected to increase or decrease the extent MHFA/YMHFA is disseminated and implemented with quality.

This data collection is covered under the requirements of Public Law 103-62, the Government Performance and Results Act (GPRA) of 1993,Title 38, section 527, Evaluation and Data Collection, as well as 38 CFR 1.15, Standards for Program Evaluation.

SAMHSA is requesting clearance for four data collection instruments:

(1) MHFA/YMHFA Pre-Training Survey.

(2) MHFA/YMHFA Post-Training Survey.

(3) MHFA/YMHFA 3-Month and 6-Month Follow-Up Survey.

(4) Qualitative protocol for interviews with site coordinators.

The table below reflects the annualized hourly burden.

Instrument/activity | Number of respondents | Responses per respondent | Total responses | Hours per response | Total burden hours
MHFA/YMHFA Pre-Training Survey | 22,800 | 1 | 22,800 | .33 | 7,524
MHFA/YMHFA Post-Training Survey | 22,800 | 1 | 22,800 | .25 | 5,700
MHFA/YMHFA 3-Month Follow-Up Survey | 19,380 | 1 | 19,380 | .17 | 3,294
MHFA/YMHFA 6-Month Follow-Up Survey | 17,100 | 1 | 17,100 | .17 | 2,907
Qualitative Interviews | 23 | 1 | 23 | .75 | 17.25
Total | 22,823 |  | 82,103 |  | 19,442

Send comments to Summer King, SAMHSA Reports Clearance Officer, 5600 Fishers Lane, Room 15E57-B, Rockville, Maryland, 20857 or email her a copy at summer.king@samhsa.hhs.gov. Written comments should be received by July 18, 2016.

Summer King,
Statistician.

[FR Doc. 2016-11560 Filed 5-16-16; 8:45 am]

BILLING CODE 4162-20-P